DEPARTMENT OF HEALTH AND HUMAN SERVICES

National Institutes of Health

National Cancer Institute; Cancellation of Meeting

Notice is hereby given of the cancellation of the National Cancer Institute Special Emphasis Panel, August 5, 2009, 8 a.m. to August 6, 2009, 5 p.m., Marriott Bethesda North Hotel & Conference Center, Bethesda, MD which was published in the Federal Register on June 26, 2009, 74FR30592.

This notice is to cancel the NCI-ARRA Grand Opportunities-Clinical/Translational Special Emphasis Panel that was to be held on August 5-6, 2009.

Dated: July 14, 2009.
Jennifer Spaeth,
Director, Office of Federal Advisory Committee Policy.

[FR Doc. E9-17207 Filed 7-17-09; 8:45 am]

BILLING CODE 4140-01-P